DEPARTMENT OF ENERGY

Federal Energy Regulatory Commission

Combined Notice of Filings

Take notice that the Commission has received the following Natural Gas Pipeline Rate and Refund Report filings:

Filings Instituting Proceedings

Docket Numbers: RP19-110-000.

Applicants: Sea Robin Pipeline Company, LLC.

Description: § 4(d) Rate Filing: Sea Robin Housekeeping to be effective 11/23/2018.

Filed Date: 10/23/18.

Accession Number: 20181023-5063.

Comments Due: 5 p.m. ET 11/5/18.

Docket Numbers: RP19-111-000.

Applicants: Texas Eastern Transmission, LP.

Description: § 4(d) Rate Filing: Negotiated Rate—Entergy 911521 to be effective 12/1/2018.

Filed Date: 10/23/18.

Accession Number: 20181023-5193.

Comments Due: 5 p.m. ET 11/5/18.

Docket Numbers: RP19-112-000.

Applicants: Rockies Express Pipeline LLC.

Description: § 4(d) Rate Filing: Neg Rate 2018-10-23 CP, Encana to be effective 10/23/2018.

Filed Date: 10/23/18.

Accession Number: 20181023-5243.

Comments Due: 5 p.m. ET 11/5/18.

Docket Numbers: RP19-113-000.

Applicants: Iroquois Gas Transmission System, L.P.

Description: § 4(d) Rate Filing: 102318 Negotiated Rates—Mieco Inc. R-7080-06 to be effective 11/1/2018.

Filed Date: 10/23/18.

Accession Number: 20181023-5248.

Comments Due: 5 p.m. ET 11/5/18.

Docket Numbers: RP19-114-000.

Applicants: Iroquois Gas Transmission System, L.P.

Description: § 4(d) Rate Filing: 102318 Negotiated Rates—Mieco Inc. R-7080-05 to be effective 11/1/2018.

Filed Date: 10/23/18.

Accession Number: 20181023-5249.

Comments Due: 5 p.m. ET 11/5/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 24, 2018.
Nathaniel J. Davis, Sr.,
Deputy Secretary.

[FR Doc. 2018-23759 Filed 10-30-18; 8:45 am]

BILLING CODE 6717-01-P